NATIONAL AERONAUTICS AND SPACE ADMINISTRATION

[Notice (03-146)]

NASA Advisory Council, Biological and Physical Research Advisory Committee Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee.

DATES: Monday, December 8, 2003, from 10 a.m. until 5 p.m.

ADDRESSES: Holiday Inn Washington Capitol, 550 C Street SW., Washington, DC 20024.

FOR FURTHER INFORMATION CONTACT: Dr. Bradley Carpenter, Code UG, National Aeronautics and Space Administration, Washington, DC 20546, (202) 358-0826.

SUPPLEMENTARY INFORMATION: The meeting will be open to the public up to the seating capability of the meeting room.

The agenda for the meeting is as follows:

—Status of the International Space Station Research Institute

—Overview of the Space Telescope Science Institute

—Role of the International Space Station Research Institute in NASA's Mission

It is imperative that the meeting be held on this date to accommodate the scheduling priorities of the key participants. Visitors will be requested to sign a visitor's register.

June W. Edwards,
Advisory Committee Management Officer, National Aeronautics and Space Administration.

[FR Doc. 03-28661 Filed 11-14-03; 8:45 am]

BILLING CODE 7510-01-P